Title 3—

The President

Memorandum of September 24, 2015

Delegation of Authority Under Section 506(a)(1) of the

Foreign Assistance Act of 1961

Memorandum for the Secretary of State

By the authority vested in me as President by the Constitution and the laws of the United States of America, including section 301 of title 3, United States Code, I hereby delegate to the Secretary of State the authority under section 506(a)(1) of the Foreign Assistance Act of 1961 to direct the drawdown of up to $45 million in defense articles and services of the Department of Defense, and military education and training, to provide assistance to Benin, Cameroon, Chad, Niger, and Nigeria to support their efforts against Boko Haram, and to make the determinations required under such section to direct such a drawdown.

You are authorized and directed to publish this memorandum in the Federal Register.

THE WHITE HOUSE,

Washington, September 24, 2015

[FR Doc. 2015-25680

Filed 10-6-15; 8:45 am]

Billing code 4710-10-P